NUCLEAR REGULATORY COMMISSION

Sunshine Act Meeting

DATES: Weeks of September 25, October 2, 9, 16, 23, and 30, 2000.

PLACE: Commissioners' Conference Room, 11555 Rockville Pike, Rockville, Maryland.

STATUS: Public and Closed.

MATTERS TO BE CONSIDERED:

Week of September 25

Friday, September 29

9:25 a.m.

Affirmation Session (Public Meeting) (If needed)

9:30 a.m.

Briefing on Risk-Informing Special Treatment Requirements (Public Meeting) (Contact: Tim Reed, 301-415-1462)

This meeting will be webcast live at the Web address—

www.nrc.gov/live.html

1:30 p.m.

Briefing on Threat Environment Assessment (Closed-Ex. 1)

Week of October 2—Tentative

Friday, October 6

9:25 a.m.

Affirmation Session (Public Meeting) (If needed)

9:30 a.m.

Meeting with ACRS (Public Meeting) (Contact: John Larkins, 301-415-7360)

Week of October 9—Tentative

There are no meetings scheduled for the Week of October 9.

Week of October 16—Tentative

Tuesday, October 17

9:25 a.m.

Affirmation Session (Public Meeting) (If needed)

Week of October 23—Tentative

Monday, October 23

1:55 p.m.

Affirmation Session (Public Meeting) (If needed)

Week of October 30—Tentative

There are no meetings scheduled for the Week of October 30.

*THE SCHEDULE FOR COMMISSION MEETINGS IS SUBJECT TO CHANGE ON SHORT NOTICE. TO VERIFY THE STATUS OF MEETINGS CALL (RECORDING)—(301) 415-1292. CONTACT PERSON FOR MORE INFORMATION: Bill Hill (301) 415-1661.

The NRC Commission Meeting Schedule can be found on the Internet at:

http://www.nrc.gov/SECY/smj/schedule.htm

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: September 22, 2000.
William M. Hill, Jr.,
SECY Tracking Officer, Office of the Secretary.

[FR Doc. 00-24911 Filed 9-25-00; 2:12 pm]

BILLING CODE 7590-01-M